SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: March 1-31, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR 806, Subpart E for the time period specified above:

Grandfathering Registration Under 18 CFR part 806, subpart E

1. Mount Holly Springs Borough Authority, GF Certificate No. GF-201903017, South Middleton Township, Cumberland County, Pa.; Pine Road Heights Well; Issue Date: March 8, 2019.

2. Denver Borough, GF Certificate No. GF-201903018, Denver Borough, Lancaster County, Pa.; Well 1 (Smokestown); Issue Date: March 8, 2019.

3. Lebanon Country Club, GF Certificate No. GF-201903019, North Cornwall Township, Lebanon County, Pa.; Irrigation Well and Consumptive Use; Issue Date: March 8, 2019.

4. American Legion Country Club, GF Certificate No. GF-201903020, Wayne Township, Mifflin County, Pa.; Juniata River and On-Site Well; Issue Date: March 18, 2019.

5. Hampden Township—Armitage Golf Club, GF Certificate No. GF-201903021, Hampden Township, Cumberland County, Pa.; Conodoguinet Creek; Issue Date: March 18, 2019.

6. Carson Family Enterprises, Inc. d.b.a. Canasawacta Country Club, GF Certificate No. GF-201903022, Towns of Plymouth and North Norwich, Chenango County, N.Y.; 15 Pond, 3 Pond, 7 Pond, and Consumptive Use; Issue Date: March 18, 2019.

7. Nittany Country Club, GF Certificate No. GF-201903023, Walker Township, Centre County, Pa.; the Reservoir on Little Fishing Creek and Consumptive Use; Issue Date: March 18, 2019.

8. Toftrees Golf Club, Inc. d/b/a Toftrees Hotel Resort and Conference Center, GF Certificate No. GF-201903024, Patton Township, Centre County, Pa.; Pond 9; Issue Date: March 18, 2019.

9. East Donegal Township Municipal Authority, GF Certificate No. GF-201903025, East Donegal Township, Lancaster County, Pa.; Glatfelter Springs; Issue Date: March 15, 2019.

10. Hanover Country Club, GF Certificate No. GF-201903026, Abbottstown Borough, Adams County, and Paradise Township, York County, Pa.; Well 1, Well 2, and Irrigation Pond; Issue Date: March 15, 2019.

11. MARS, Incorporated—Mars Wrigley Confectionery US, LLC, GF Certificate No. GF-201903027, Elizabethtown Borough, Lancaster County, Pa.; Well 6; Issue Date: March 15, 2019.

12. Farmers Pride, Inc. dba Bell & Evans, GF Certificate No. GF-201903028, Bethel Township, Lebanon County, Pa.; Main Well and Consumptive Use; Issue Date: March 27, 2019.

13. State College Borough Water Authority, GF Certificate No. GF-201903029, College and Harris Townships, Centre County, Pa.; Wells 7, 8, 11, and 14 (Thomas Wells) and Well 25; Issue Date: March 27, 2019.

Authority: Public Law 91-575, 84 Stat. 1509 et seq., 18 CFR parts 806 and 808.

Dated: April 22, 2019.
Jason E. Oyler,
General Counsel and Secretary to the Commission.

[FR Doc. 2019-08503 Filed 4-26-19; 8:45 am]

BILLING CODE 7040-01-P